DEPARTMENT OF HEALTH AND HUMAN SERVICES

Centers for Disease Control and Prevention

National Institute for Occupational Safety and Health, Identify and Assess Priorities, Strategies and Methods for Surveillance of Health and Safety Hazards in the Health Services Industry; Meeting

The National Institute for Occupational Safety and Health (NIOSH) of the Centers for Disease Control and Prevention (CDC) announces the following meeting.

In accordance with section 10(a)(2) of the Federal Advisory Committee Act (Pub. L. 92-463), the Centers for Disease Control and Prevention (CDC) announces the following committee meeting.

Name: National Institute for Occupational Safety and Health, Identify and Assess Priorities, Strategies and Methods for Surveillance of Health and Safety Hazards in the Health Services Industry.

Date and Time: 8 a.m.-5 p.m., February 27, 2002.

Place: Mt. Washington Conference Center, 5801 Smith Avenue, Baltimore, MD, 21209; Phone: 410-578-7964. Web Address: http://conference-center.stpaul.com.

Status: Open to the public, limited only by space available. Seating will be limited to approximately 60 people. Due to limited conference space, notification of intent to attend the meeting must be made with Karen Tucker by no later than January 18, 2002. Ms. Tucker can be reached by telephone at 1-800-444-5234, ext 103 or by E-mail tucker@battelle.org. Requests to attend will be accommodated on a first come basis.

Purpose: To request public assistance in identifying occupational hazards in the Health Services industry which NIOSH should target in a nationally representative survey called the National Exposures at Work Survey (NEWS). In addition, there will be a request for information about the procedures that could be used to gather information on specific health and safety hazards and practices from management and workers during the survey.

NIOSH's Surveillance Strategic Plan calls for the conduct of a comprehensive, nationally representative hazard survey. To this end, NIOSH is planning to conduct the NEWS in a nationally representative sample of workplaces across all industries, starting with the Health Services industry. The purpose of the survey will be to collect data about exposures to occupational hazards and associated occupational groups, use of exposure controls, and management and employee health and safety practices. Prior to conducting the NEWS, a limited number of feasibility or pilot surveys will be necessary for evaluating tools and methods to be used in the NEWS. At this meeting, NIOSH will ask the attendees for their views on what specific hazards and occupational groups should be targeted in the NEWS, and how best to collect information from management and workers without significantly impacting normal business operations. NIOSH is seeking individual input from academicians, researchers, practitioners, government agencies, and others on addressing these topic areas.

Tracking Occupational Injuries, Illnesses and Hazards: The NIOSH Surveillance Strategic Plan. DHHS (NIOSH) Publication No. 2001-118.

For Further Information Contact: James M. Boiano, MS, CIH, NIOSH, CDC, M/S R19, 4676 Columbia Parkway, Cincinnati, OH 45226-1998, telephone 513-841-4246, fax 513-841-4489, E-mail: jboiano@cdc.gov. Gregory M. Piacitelli, MS, CIH, NIOSH, CDC, M/S R19, 4676 Columbia Parkway, Cincinnati, OH 45226-1998, telephone 513-841-4456, fax 513-841-4489, E-mail: gpiacitelli@cdc.gov.

The Director, Management Analysis and Services Office, has been delegated the authority to sign Federal Register Notices pertaining to announcements of meetings and other committee management activities, for both the Centers for Disease Control and Prevention and the Agency for Toxic Substances and Disease Registry.

Dated: January 4, 2002.
John Burckhardt,
Acting Director, Management Analysis and Services Office, Centers for Disease Control and Prevention.

[FR Doc. 02-608 Filed 1-9-02; 8:45 am]

BILLING CODE 4163-18-P